DEPARTMENT OF TRANSPORTATION

Announcement of Department of Transportation Portal for Guidance Documents

AGENCY: Office of the Secretary of Transportation (OST), U.S. Department of Transportation (DOT).

ACTION: Notice of availability.

SUMMARY: This notice announces the availability of the U.S. Department of Transportation's guidance portal. This guidance portal will provide convenient public access to the Department's guidance documents, ensure transparent use of guidance documents, and implement the Executive Order titled, “Promoting the Rule of Law Through Improved Agency Guidance Documents.”

DATES: The guidance portal is accessible by the public on the date of publication of this notice. All DOT guidance documents remaining in effect will be found through the guidance portal.

FOR FURTHER INFORMATION CONTACT: Jill Laptosky, Office of Regulation, Office of the General Counsel, 202-493-0308, Jill.Laptosky@dot.gov. For technical questions related to information and technology, please contact Andrea Bouchard, Office of the Chief Information Officer, 202-366-9974, Andrea.Bouchard@dot.gov.

SUPPLEMENTARY INFORMATION: On October 9, 2019, the President signed Executive Order (E.O.) 13891, titled: “Promoting the Rule of Law Through Improved Agency Guidance Documents.” ¹ Section 3(a) of the E.O. directs each Federal agency to establish or maintain on its website a single, searchable, indexed database that contains or links to all guidance documents in effect from that agency or its components. Guidance documents are defined by section 2(b) of the E.O. as an agency statement of general applicability, intended to have future effect on the behavior of regulated parties, that sets forth a policy on a statutory, regulatory, or technical issue, or an interpretation of a statute or regulation. The E.O. excludes from this definition rules promulgated pursuant to notice and comment under section 553 of title 5, United States Code, or similar statutory provisions; rules exempt from rulemaking requirements under section 553(a) of title 5, United States Code; rules of agency organization, procedure or practice; decisions of agency adjudications; internal guidance documents directed to the issuing agency or other agencies and that are not intended to have substantial future effect on the behavior of regulated parties; or internal executive branch legal advice or legal opinions addressed to executive branch officials. The Department defines “guidance document” in its regulations on guidance procedures at 49 CFR 5.25(c)-(d).

¹ 84 FR 55235 (Oct. 15, 2019).

On October 31, 2019, the Office of Management and Budget (OMB) issued Memorandum M-20-02, titled: “Guidance Implementing Executive Order 13891, Titled `Promoting the Rule of Law Through Improved Agency Guidance Documents.' ” The memorandum requires Federal agencies to establish the database mandated by the E.O. no later than February 28, 2020. In addition, the memorandum asks agencies to publish in the Federal Register an announcement of the existence of that guidance portal.

Accordingly, this notice announces that DOT has established its guidance portal at https://www.transportation.gov/guidance. This is a single, searchable, indexed website that contains all of DOT's guidance documents currently in effect or links to sites of DOT component agencies that contains guidance documents for that component agency. To provide for ease of access by the public, all guidance documents located on, or linked from, this portal will be machine readable and can be indexed and searched by commonly used commercial search engines. Any guidance document that is not included on, or linked from, this guidance portal by February 28, 2020, will not be cited to, used, or relied on by DOT, including its component agencies, except to establish historical facts. Guidance documents available on or through the DOT guidance portal do not have the force and effect of law and are not meant to bind the public in any way. The guidance documents available on or through the DOT guidance portal are intended only to provide clarity to the public regarding existing requirements under the law or agency policies.

Issued in Washington, DC, on February 25, 2020.
Elaine L. Chao,
Secretary.

[FR Doc. 2020-04308 Filed 3-2-20; 8:45 am]

BILLING CODE 4910-9X-P